ENVIRONMENTAL PROTECTION AGENCY

[FRL-9909-90-Region-5]

Public Water System Supervision Program Approval for the State of Ohio

AGENCY: Environmental Protection Agency (EPA).

ACTION: Notice of tentative approval.

SUMMARY: Notice is hereby given that the Environmental Protection Agency (EPA) has tentatively approved revisions to the State of Ohio's public water system supervision program. Ohio EPA has revised two of its rules to comply with the National Primary Drinking Water Regulations, including the Long-Term 1 Enhanced Surface Water Treatment Rule (LT1ESWTR) and the Lead and Copper Rule Short-Term Revisions and Clarifications. EPA has determined that these revisions are consistent with and no less stringent than the corresponding federal regulations. Therefore, EPA intends to approve these revisions to the State of Ohio's public water system supervision program, thereby giving Ohio EPA primary enforcement responsibility for these regulations. Ohio EPA has been implementing the LT1ESWTR since August 3, 2004, and Ohio EPA has been administering the revised lead and copper requirements since July 24, 2009.

Any interested party may request a public hearing. A request for a public hearing must be submitted by May 23, 2014 to the Regional Administrator at the EPA Region 5 address shown below. The Regional Administrator may deny frivolous or insubstantial requests for a hearing. However, if a substantial request for a public hearing is made by May 23, 2014 EPA Region 5 will hold a public hearing, and a notice of such hearing will be given in the Federal Register and a newspaper of general circulation. If EPA Region 5 does not receive a timely and appropriate request for a hearing and the Regional Administrator does not elect to hold a hearing on her own motion, this determination shall become final and effective on May 23, 2014. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Ohio Environmental Protection Agency, Division of Drinking and Ground Waters, 50 West Town Street, Suite 700, Columbus, Ohio 43215, between the hours of 8:00 a.m. and 5:00 p.m., Monday through Friday, and the United States Environmental Protection Agency, Region 5, Ground Water and Drinking Water Branch (WG-15J), 77 West Jackson Boulevard, Chicago, Illinois 60604, between the hours of 9:00 a.m. and 4:30 p.m., Monday through Friday.

FOR FURTHER INFORMATION CONTACT: Wendy Drake, EPA Region 5, Ground Water and Drinking Water Branch, at the address given above, by telephone at (312) 886-6705, or at drake.wendy@epa.gov.

Authority: Section 1413 of the Safe Drinking Water Act, 42 U.S.C. 300g-2, and the federal regulations implementing Section 1413 of the Act set forth at 40 CFR part 142.

Dated: April 3, 2014.
Susan Hedman,
Regional Administrator, Region 5.

[FR Doc. 2014-09256 Filed 4-22-14; 8:45 am]

BILLING CODE 6560-50-P